OFFICE OF PERSONNEL MANAGEMENT

Submission for Review: Customer Satisfaction Surveys, OMB Control No. 3206-0236

AGENCY: U.S. Office of Personnel Management.

ACTION: 30-Day Notice and request for comments.

SUMMARY: The Office of Personnel Management (OPM) offers the general public and other Federal agencies the opportunity to comment on a revised information collection request (ICR) 3206-0236, Customer Satisfaction Surveys. As required by the Paperwork Reduction Act of 1995 (Pub. L. 104-13, 44 U.S.C. chapter 35), as amended by the Clinger-Cohen Act (Pub. L. 104-106), OPM is soliciting comments for this collection. The information collection was previously published in the Federal Register on June 21, 2010 at 75 FR 35093 allowing for a 60-day public comment period. One comment was received for this information collection. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until November 22, 2010. This process is conducted in accordance with 5 CFR 1320.1.

ADDRESSES: Interested persons are invited to submit written comments on the proposed information collection to the Office of Information and Regulatory Affairs, Office of Management Budget, 725 17th Street, NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street, NW., Washington, DC 20503, Attention: Desk Officer for the Office of Personnel Management or sent via electronic mail to oira_submission@omb.eop.gov or faxed to (202) 395-6974.

SUPPLEMENTARY INFORMATION: The Office of Personnel Management (OPM) leads Federal agencies in shaping human resources management systems to effectively recruit, develop, manage and retain a high quality and diverse workforce. We need to solicit input from our customers to evaluate our performance in providing services. Customer satisfaction surveys are valuable tools to gather information from our customers so we can design and implement new ways to improve our service to meet their needs. This collection request includes surveys that we currently use or plan to use during the next three years to measure our ability to meet our customer needs. The survey instruments include direct mail, telephone contact, focus groups and web exit surveys. Our customers include the general public, Federal benefit recipients, Federal agencies and Federal employees. The currently approved collection has been revised to exclude performance measurement surveys and program services evaluation surveys. Only those surveys relating specifically to customer satisfaction will be associated with OMB Control No. 3206-0236. We estimate 495,182 customer satisfaction surveys will be completed in the next 3 years. The time estimate varies from 2 minutes to 30 minutes to complete. The estimated burden is 34,152 hours.

U.S. Office of Personnel Management.
John Berry,
Director.

[FR Doc. 2010-26541 Filed 10-20-10; 8:45 am]

BILLING CODE 6325-47-P